DEPARTMENT OF THE INTERIOR

Bureau of Land Management

[LLAK930000.L13100000.DS0000]

Notice of Availability of the National Petroleum Reserve-Alaska Final Integrated Activity Plan/Environmental Impact Statement

AGENCY: Bureau of Land Management, Interior.

ACTION: Notice of availability.

SUMMARY: The Bureau of Land Management (BLM), Alaska State Office, is issuing the National Petroleum Reserve in Alaska (NPR-A) Final Integrated Activity Plan/Environmental Impact Statement (IAP/EIS).

DATES: The Final IAP/EIS is available to the public. After 30 days, the BLM will issue a Record of Decision (ROD).

ADDRESSES: Requests for information regarding the Final IAP/EIS, or for copies of the document in either CD or paper format, may be sent to Jim Ducker (907-271-3130) or Serena Sweet (907-271-4543), Bureau of Land Management, Alaska State Office (AK931), 222 West 7th Avenue #13, Anchorage, AK 99513-7599. The Final IAP/EIS is available on the BLM-Alaska Web site at http:www.blm.gov/ak.

FOR FURTHER INFORMATION CONTACT: Jim Ducker or Serena Sweet, BLM Alaska State Office, 907-271-3130 and 907-271-4543, respectively. Persons who use a telecommunications device for the deaf (TDD) may call the Federal Information Relay Service (FIRS) at 1-800-877-8339 to contact one of the above individuals during normal business hours. The FIRS is available 24 hours a day, 7 days a week, to leave a message or question with the above individual. You will receive a reply during normal business hours.

SUPPLEMENTARY INFORMATION: This IAP/EIS will result in a ROD that will supersede the Northwest NPR-A IAP ROD (signed January 22, 2004) and the Northeast NPR-A Supplemental IAP ROD (signed July 16, 2008) and may amend the Colville River Special Area Management Plan (signed July 18, 2008). The Final IAP/EIS offers five alternatives for future management of the nearly 23-million-acre NPR-A. Unlike the Draft IAP/EIS published March 30, 2012, the Final IAP/EIS includes a Preferred Alternative. The Preferred Alternative, designated Alternative B-2, most closely resembles Alternative B in the Draft IAP/EIS, particularly the decisions to open public lands for oil and gas leasing and to expand Special Areas. The Preferred Alternative, however, differs from the Draft IAP/EIS's Alternative B by expanding the areas in which the BLM could approve an application for pipelines and other infrastructure in support of offshore oil and gas development, and by not recommending congressional Wild and Scenic River designation, among other revisions.

Bud C. Cribley,
State Director.

[FR Doc. 2012-31145 Filed 12-27-12; 8:45 am]

BILLING CODE 4310-JA-P